DEPARTMENT OF JUSTICE

28 CFR Part 106

[JMD Docket No. 157; A.G. Order No. 5922-2024]

RIN 1105-AB71

Implementation of HAVANA Act of 2021

AGENCY: Department of Justice.

ACTION: Interim final rule; reopening of comment period.

SUMMARY: This document reopens the comment period for the interim final rule titled “Implementation of HAVANA Act of 2021” that appeared in the April 19, 2024, issue of the Federal Register.

DATES: The comment period for the interim final rule published April 19, 2024, at 89 FR 28633, is reopened. Electronic comments must be submitted, and written comments must be postmarked, on or before November 18, 2024. Commenters should be aware that the electronic Federal Docket Management System will not accept comments after 11:59 p.m. Eastern Time on the last day of the comment period.

ADDRESSES: If you wish to provide comments regarding this interim final rule, you must submit comments, referencing RIN 1105-AB71 or JMD Docket No. 157, by one of the two methods below:

• Federal eRulemaking Portal: https://www.regulations.gov. Follow the website instructions for submitting comments.

• Mail: Paper comments that duplicate an electronic submission are unnecessary. If you wish to submit a paper comment in lieu of an electronic submission, please direct the mail/shipment to: General Counsel, Justice Management Division, U.S. Department of Justice, Two Constitution Square (2CON), 145 N St. NE, Suite 8E.500, Washington, DC 20530. To ensure proper handling, please reference the agency name and RIN 1105-AB71 or JMD Docket No. 157 on your correspondence. Mailed items must be postmarked or otherwise indicate a shipping date on or before the submission deadline.

FOR FURTHER INFORMATION CONTACT: Morton J. Posner, General Counsel, Justice Management Division, (202) 514-3452.

SUPPLEMENTARY INFORMATION: The Department of Justice (“Department”) published an interim final rule titled “Implementation of HAVANA Act of 2021,” which appeared in the Federal Register on April 19, 2024 (89 FR 28633). A technical correction to that interim final rule was published in the Federal Register on May 3, 2024 (89 FR 36671). That correction was effective on May 20, 2024.

The interim final rule implemented the HAVANA Act of 2021, Public Law 117-46, 135 Stat. 391 (2021) (codified at 22 U.S.C. 2680b(i)). The HAVANA Act authorizes agency heads to provide payments to certain individuals who have incurred qualifying injuries to the brain. The interim final rule covers current and former Department of Justice employees and their dependents. The comment period on the interim final rule closed June 18, 2024.

The Department received no written or electronic comments on the interim final rule during the comment period. Although the Department received no comments about the commenting process, the Department is concerned that the public may have been hindered from submitting electronic comments through the Federal eRulemaking Portal at “https://www.regulations.gov regulations.gov” because of a technical problem that was discovered after the comment period closed. Accordingly, the Department is reopening the comment period until November 18, 2024.

Dated: October 8, 2024.
Jolene Ann Lauria,
Assistant Attorney General for Administration.

[FR Doc. 2024-23760 Filed 10-16-24; 8:45 am]

BILLING CODE 4410-AR-P